DEPARTMENT OF COMMERCE

International Trade Administration

[C-201-810]

Certain Cut-to-Length Carbon Steel Plate from Mexico: Final Results of Countervailing Duty Administrative Review

AGENCY: Import Administration, International Trade Administration, Department of Commerce.

ACTION: Notice of Final Results of Countervailing Duty Administrative Review.

SUMMARY: On September 8, 2003, the Department of Commerce (the Department) published in the Federal Register its preliminary results of administrative review of the countervailing duty order on certain cut-to-length carbon steel plate (CTL Plate) from Mexico for the period January 1, 2001, through December 31, 2001. We are now issuing the final results.

Based on our analysis of the comments received, we have made no changes to the net subsidy rate. Therefore, the final results do not differ from the preliminary results. The final net subsidy rate for the reviewed company is listed below in the section entitled “Final Results of Review.”

EFFECTIVE DATE: January 13, 2004.

FOR FURTHER INFORMATION CONTACT: Eric B. Greynolds at (202) 482-6071 or Lyman Armstrong at (202) 482-3601, Office of AD/CVD Enforcement VI, Group II, Import Administration, International Trade Administration, U.S. Department of Commerce, Room 4012, 14th Street and Constitution Avenue, NW., Washington, DC 20230.

SUPPLEMENTARY INFORMATION:

Background

On September 8, 2003, the Department published the preliminary results of the administrative review of the countervailing duty order on certain cut-to-length carbon steel plate from Mexico. See Certain Cut-to-Length Carbon Steel Plate from Mexico: Preliminary Results of Countervailing Duty Administrative Review, 68 FR 52895 (September 8, 2003) (Preliminary Results). This review covers one manufacturer/exporter, Altos Hornos de Mexico, S.A. (AHMSA). The review covers the period January 1, 2001, through December 31, 2001, and 17 programs.

Scope of the Review

The products covered by this administrative review are certain cut-to-length carbon steel plates. These products include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedules of the United States (HTSUS) under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included in this administrative review are flat-rolled products of nonrectangular cross-section where such cross-section is achieved subsequent to the rolling process (i.e., products which have been “worked after rolling”)--for example, products which have been bevelled or rounded at the edges. Excluded from this administrative review is grade X-70 plate. HTSUS subheadings are provided for convenience and customs purposes. The written description of the scope of this proceeding is dispositive.

Analysis of Comments Received

All issues raised in the case and rebuttal briefs by parties to this administrative review are addressed in the “Issues and Decision Memorandum” (Decision Memorandum) dated January 6, 2004, which is hereby adopted by this notice. A list of issues which parties have raised and to which we have responded, all of which are in the Decision Memorandum, is attached to this notice as Appendix I. Parties can find a complete discussion of all issues raised in this review and the corresponding recommendations in this public memorandum which is on file in room B-099 of the Main Commerce Building. In addition, a complete version of the Decision Memorandum can be accessed directly on the World Wide Web at http://www.ia.ita.doc.gov, under the heading “Federal Register Notices.” The paper copy and electronic version of the Decision Memorandum are identical in content.

Changes Since the Preliminary Results

Based on our analysis of the comments received, we have made no changes to the net subsidy rate.

Final Results of Review

In accordance with 19 CFR 351.221(b)(4)(I), we calculated an individual subsidy rate for the producer/exporter subject to this review. We will instruct the U.S. Customs and Border Protection (CBP) to assess countervailing duties as indicated below on all appropriate entries. For the period January 1, 2001, through December 31, 2001, we determine the net subsidy rate for the reviewed company to be as follows:

Manufacturer/Exporter | Net Subsidy Rate
AHMSA | 13.37 %

The Department will also instruct CBP to collect cash deposits of estimated countervailing duties in the percentage detailed above of the f.o.b. invoice price on all shipments of the subject merchandise from the reviewed company, entered, or withdrawn from warehouse, for consumption on or after the date of publication of the final results of this review.

Because the Uruguay Round Agreements Act (URAA) replaced the general rule in favor of a country-wide rate with a general rule in favor of individual rates for investigated and reviewed companies, the procedures for establishing countervailing duty rates, including those for non-reviewed companies, are now essentially the same as those in antidumping cases, except as provided for in section 777A(e)(2)(B) of the Tariff Act of 1930, as amended (the Act). The requested review will normally cover only those companies specifically named. See 19 CFR 351.213(b). Pursuant to 19 CFR 351.212(c), for all companies for which a review was not requested, duties must be assessed at the cash deposit rate, and cash deposits must continue to be collected at the rate previously ordered. As such, the countervailing duty cash deposit rate applicable to a company can no longer change, except pursuant to a request for a review of that company. See Federal-Mogul Corporation and the Torrington Company v. United States, 822 F. Supp. 782 (CIT 1993); Floral Trade Council v. United States, 822 F. Supp. 766 (CIT 1993). Therefore, the cash deposit rates for all companies except that covered by this review will be unchanged by the results of this review.

We will instruct CBP to continue to collect cash deposits for non-reviewed companies at the most recent company-specific or country-wide rate applicable to the company. Accordingly, the cash deposit rates that will be applied to non-reviewed companies covered by this order will be the rate for each such company established in the most recently completed administrative review segment conducted under the Act. If such a review has not been conducted, the rate established in the most recently completed administrative proceeding pursuant to the statutory provisions that were in effect prior to the URAA amendments is applicable. See Final Affirmative Countervailing Duty Determination: Certain Steel Products from Mexico, 58 FR 37352 (July 9, 1993). These rates shall apply to all non-reviewed companies until a review of a company assigned these rates is requested. In addition, for the period January 1, 2001, through December 31, 2001, the assessment rates applicable to all non-reviewed companies covered by this order are the cash deposit rates in effect at the time of entry.

This notice serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

This administrative review and notice are in accordance with section 751(a)(1) of the Act (19 USC 1675(a)(1)).

Dated: January 6, 2004.
James J. Jochum,
Assistant Secretaryfor Import Administration.

Appendix I—Issues Discussed in Decision Memorandum

http://www.ia.ita.doc.gov, under the heading (“Federal Register Notices”).

Methodology and Background Information

I. Subsidies Valuation Information

A. Allocation Period

B. Creditworthiness and Calculation of Discount Rate

II. Change-in-Ownership

III. Inflation Methodology

IV. Analysis of Programs

A. Programs Conferring Subsidies

1. Government of Mexico (GOM) Equity Infusions

2. 1988 and 1990 Debt Restructuring of AHMSA Debt and the Resulting Discounted Prepayment in 1996 of AHMSA's Restructured Debt Owed to the GOM

3. Grants from the Mexican Institute for Steel Research (IMIS)

4. Lay-off Financing from the GOM Bestowed in 1994

5. Bancomext Export Loans

6. Committed Investment

7. Immediate Deduction

B. Programs Determined Not to Confer Subsidies

1. Petroleos Mexicanos (PEMEX) Guaranteed Provision of Natural Gas for Less Than Adequate Remuneration

2. PITEX Duty-Free Imports for Companies That Export

3. GOM Assumption of AHMSA Debt in 1986

C. Program Determined Not to Exist

1. NAFIN/Coahuila State Government Supplier Relief

D. Programs Determined To Be Not Used

1. FONEI Long-Term Financing

2. Export Financing Restructuring

3. Bancomext Trade Promotion Services and Technical Support

4. Empresas de Comercio Exterior or Foreign Trade Companies Program

5. Article 15 and Article 94 Loans

6. NAFIN Long-Term Loans

V. Total Ad Valorem Rate

VI. Analysis of Comments

Comment 1: Whether the Department Correctly Countervailed the Benefit Attributable to Committed Investment in AHMSA by the Grupo Acerero del Norte (GAN)

Comment 2: Whether the Department Correctly Investigated and Countervailed Benefits Conferred Under the Immediate Deduction Program

Comment 3: Whether the Department Should Have Found AHMSA Uncreditworthy in 2000

Comment 4: Whether AHMSA's May 2, 2000 Renegotiated Bancomext Loans and the Corresponding Renegotiated Penalty Rate Are Countervailable

Comment 5: Whether the Department Used an Appropriate Benchmark Interest Rate When Calculating the Benefit Attributable to the May 2, 2000 Renegotiated Bancomext Loans

Comment 6: Whether the Department Used an Appropriate Benchmark Penalty Rate When Calculating the Benefit Attributable to AHMSA's May 2, 2000 Renegotiated Bancomext Loans

Comment 7: Whether the Department Should Continue to Use the Same Person Test in Determining Whether Non-Recurring Pre-Privatization Subsidies Continue to Provide a Countervailable Benefit to AHMSA

[FR Doc. 04-697 Filed 1-12-04; 8:45 am]

BILLING CODE 3510-DS-S